DEPARTMENT OF HOUSING AND URBAN DEVELOPMENT

[Docket No. FR-7092-N-15]

Privacy Act of 1974; System of Records

AGENCY: Office of Single Family Asset Management, HUD.

ACTION: Notice of a rescindment of a system of records.

SUMMARY: Pursuant to the provisions of the Privacy Act of 1974, as amended, the Department of the Housing and Urban Development (HUD), the Office of Single-Family Asset Management is issuing a public notice of its intent to rescind the Single-Family Default Monitoring System (SFDMS) because it is consolidated into the Federal Housing Administration (FHA) Catalyst as of March 1, 2022.

DATES: Comments will be accepted on or before February 29, 2024. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Single-Family Default Monitoring System (SFDMS) is used to report mortgages 30 days or more delinquent. The Mortgagee or Servicer must submit a monthly status and/or is terminated or deleted. Under Mortgagee Letter 2021-31, published on December 30, 2021, update to FHA Catalyst Transition for Single-Family Default Monitoring System (SFDMS) Reporting Module, FHA announced that the mortgagee default reporting functionality would be transitioned to the FHA Catalyst: SFDMS Reporting Module and that February 7, 2022. Beginning March 1, 2022, Mortgagees began reporting directly through FHA Catalyst SFDMS module. The method used for retrieving records was assessed, and it was found that the system's records are retrieved using the FHA Case Number (also known as case file number) assigned to the loan. While the system can search using the default borrowers Social Security Numbers, Property Addresses, these fields were never the primary methods of retrieval. The SFDMS system of records is being rescinded since it does not meet the legal definition. All data were handled under HUD's Media Protection Procedures and NIST SP 800-88, Guidelines for Media Sanitization.

SYSTEM NAME AND NUMBER:

Single Family Default Monitoring System (SFDMS), F42D.

HISTORY:

72 FR 65350 (November 20/2007), Agency Docket No. FR-5130-N-16.

Ladonne White,
Chief Privacy Officer, Office of Administration.

[FR Doc. 2024-01767 Filed 1-29-24; 8:45 am]

BILLING CODE 4210-67-P